ENVIRONMENTAL PROTECTION AGENCY

[EPA-HQ-OPPT-2011-0314; FRL-8873-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Chemical Substances Inventory (TSCA Inventory)) to notify EPA and comply with the statutory provisions pertaining to the manufacture of new chemicals. Under TSCA sections 5(d)(2) and 5(d)(3), EPA is required to publish in the Federal Register a notice of receipt of a premanufacture notice (PMN) or an application for a test marketing exemption (TME), and to publish in the Federal Register periodic status reports on the new chemicals under review and the receipt of notices of commencement (NOC) to manufacture those chemicals. This document, which covers the period from December 3, 2010 to January 31, 2011, and provides the required notice and status report, consists of the PMNs pending or expired, and the NOC to manufacture a new chemical that the Agency has received under TSCA section 5 during this time period.

DATES: Comments identified by the specific PMN number or TME number, must be received on or before July 5, 2011.

ADDRESSES: Submit your comments, identified by docket identification (ID) number EPA-HQ-OPPT-2011-0314, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://ww.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from December 3, 2010 to January 31, 2011, consists of the PMNs pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—99 PMNs Received From December 3, 2010 to January 31, 2010
Case No. | Received date | Projected notice end date | Manufacturer/importer | Use | Chemical
P-11-0091 | 12/03/10 | 03/02/11 | CBI | (G) Oil and water repellant and release agent | (G) Fluorinated acrylic alkylamino copolymer.
P-11-0092 | 12/03/10 | 03/02/11 | CBI | (G) Oil and water repellant and release agent | (G) Fluorinated acrylic alkylamino copolymer.
P-11-0093 | 12/03/10 | 03/02/11 | CBI | (G) Oil and water repellant and release agent | (G) Fluorinated acrylic alkylamino copolymer.
P-11-0094 | 12/07/10 | 03/06/11 | CBI | (G) Dispersion additive | (G) 2-naphthalenecarboxylic acid, substituted diazenyl calcium salt.
P-11-0095 | 12/08/10 | 03/07/11 | Hybrid Plastics, Inc. | (G) 1. Thermoplastics and coatings additive; 2. Elastomer additive | (S) Tricyclo[7.3.3.15,11]heptasiloxane-3,7,14-triol, 1,3,5,7,9,11,14-heptaphenyl.
P-11-0096 | 12/08/10 | 03/07/11 | AOC LLC | (S) Polymer component for laminating of fiberglass reinforced plastic parts | (S) 1,4-benzenedicarboxylic acid, 1,4-dimethyl ester, polymer with 1,4-cyclohexanedimethanol and 2,2,4,4-tetramethyl-1,3-cyclobutanediol, manuf. of, by-products from, reaction products with ethylene glycol, polymers with 1,4-cyclohexanedimethanol, diethylene glycol, ethylene glycol, maleic anhydride and phthalic anhydride, 3a,4,5,6,7,7a-hexahydro-4,7-methano-1h-inden-5(or 6)-yl esters.
P-11-0097 | 12/09/10 | 03/08/11 | Reichhold, Inc. | (S) Carrier resin for paints and coatings | (G) Amine salt of vegetable oils, polymer with alkanedioic acid, amino substituted alcohol, hydroxy substituted carboxylic acid, alkanediol, isocyanates, hydroxy substituted alkane and tetra hydroxy alkane.
P-11-0098 | 12/09/10 | 03/08/11 | CBI | (G) Epoxy catalyst | (S) Phenol, 2-[1-[[3-(1h-imidazol-1-yl)propyl]imino]ethyl]-
P-11-0099 | 12/13/10 | 03/12/11 | Huntsman Textile Effects | (S) Exhaust dyeing of cotton fabrics | (G) Condensation sodium/potassium salt reaction product of substituted naphthalene sulfonic acid azo substituted phenyl amino substituted triazine and alkylsulfonyl benzenesulfonic acid azo substituted phenylamino substituted triazine.
P-11-0100 | 12/10/10 | 03/09/11 | CBI | (G) Scale inhibitor for subterranean oilfield brines | (G) Organicsulfonic acid, sodium salt, polymer with 2,5-furandione, 2-methyl-2-propenoic acid and 2-propenoic acid, sodium salt, hydrogen peroxide- and peroxydisulfuric acid ([(ho)s(o)2o2 sodium salt (1:2)-initiated.
P-11-0101 | 12/10/10 | 03/09/11 | CBI | (G) Scale inhibitor for subterranean oilfield brines | (G) Organicsulfonic acid, sodium salt, polymer with 2,5-furandione, 2-methyl-2-propenoic acid and 2-propenoic acid, ammonium salt, hydrogen peroxide- and peroxydisulfuric acid ([(ho)s(o)2]2o2) sodium salt (1:2)-initiated.
P-11-0102 | 12/10/10 | 03/09/11 | CBI | (G) Scale inhibitor for subterranean oilfield brines | (G) Organicsulfonic acid, sodium salt, polymer with 2,5-furandione, methyl 2-methyl-2-propenoate, 2-methyl-2-propenoic acid, 2-propenoic acid, sodium 4-ethylbenzene sulfonate (1:1) and sodium 2-methyl-2-[(1-oxo-2-propen-1-yl)amino]-1-propanesulfoate (1:1), sodium salt, hydrogen peroxide- and peroxydisulfuric acid ([(ho)s(o)2]2o2) sodium salt (1:2)-initiated.
P-11-0103 | 12/10/10 | 03/09/11 | CBI | (G) Scale inhibitor for subterranean oilfield brines | (G) Organicsulfonic acid, sodium salt, polymer with 2,5-furandione, methyl 2-methyl-2-propenoate, 2-methyl-2-propenoic acid, 2-propenoic acid, sodium 4-ethenylbenzene sulfonate (1:1) and sodium 2-methyl-2-[(1-oxo-2-propen-1-yl)amino]-1-propanesulfonate(1:1)ammonium salt, hydrogen peroxide- and peroxydisulfuric acid ([(ho)s(o)2]2o2) sodium salt (1:2)-initiated.
P-11-0104 | 12/10/10 | 03/09/11 | CBI | (G) Scale inhibitor for subterranean oilfield brines | (G) Organicsulfonic acid, sodium salt, polymer with 1-methyl hydrogen (2z)-2-butenedioate, 2-methyl-2-propenoic acid, 1,2-propanedoil mono(2-methyl-2-propenoate) and 2-propenoic acid, sodium salt, tert-bu hydroperoxide- and hydrogen peroxide-initiated.
P-11-0105 | 12/10/10 | 03/09/11 | CBI | (G) Scale inhibitor for subterranean oilfield brines | (G) Organicsulfonic acid, sodium salt, polymer with 1-methyl hydrogen (2z)-2-butenedioate, 2-methyl-2-propenoic acid, 1,2-propanedoil mono(2-methyl-2-propenoate) and 2-propenoic acid, ammonium salt, tert-bu hydroperoxide- and hydrogen peroxide-initiated.
P-11-0106 | 12/13/10 | 03/12/11 | CBI | (S) Surfactant in asphalt emulsion | (G) Unsaturated fatty acids, amides with polyethylenepolyamine.
P-11-0107 | 12/13/10 | 03/12/11 | CBI | (S) Anti-stripping agent in asphalt | (G) Fatty acids, amides with triethylenetetramine.
P-11-0108 | 12/13/10 | 03/12/11 | Cytec Industries Inc. | (S) Dispersing additive for organic and inorganic pigments and extenders | (G) Substituted alkanoic acid, polymer with alkanoic acid alkyl esters, with substituted polyglycol-initiated.
P-11-0109 | 12/13/10 | 03/12/11 | Cytec Industries Inc. | (G) Coatings resin | (G) Substituted alkyl homopolymer, substituted alkylacrylate and heteromonocyclic homopolymer monoester with substituted alkylacrylate.
P-11-0110 | 12/13/10 | 03/12/11 | CBI | (G) Inhibitor for oil field applications | (G) Tertiary ammonium compound.
P-11-0111 | 12/03/10 | 03/02/11 | CBI | (G) Urethane component | (G) Alkoxylated triol polymer with alkyl anhydride.
P-11-0112 | 12/14/10 | 03/13/11 | Cytec Industries Inc. | (G) Binder resin | (G) Modified epoxy resin.
P-11-0113 | 12/14/10 | 03/13/11 | CBI | (G) Ink additive used to assure the ink binds to the print media | (G) Heteromonocyclo, 4-methyl-, oxide, methanesulfonate salt.
P-11-0114 | 12/16/10 | 03/15/11 | Mane, U.S.A. | (G) Perfumery ingredient | (S) 2(3h)-furanone, 3-ethyldihydro-5,5-dimethyl-.
P-11-0115 | 12/16/10 | 03/15/11 | CBI | (G) Adhesive | (G) MDI modified polyester resin.
P-11-0116 | 12/16/10 | 03/15/11 | CBI | (G) Inkjet ink | (G) Carboxylic acid, alkanoate polymer with ethenylbenzene and 2-propenoic acid, di-me 2,2′-(1,2-diazenediyl)bis[2-methylpropanoate]-initiatied, compds. with 2-(dimethylamino)ethanol.
P-11-0117 | 12/16/10 | 03/15/11 | CBI | (G) Dispersant | (G) Polyamine-polymer graft polymer.
P-11-0118 | 12/16/10 | 03/15/11 | CBI | (G) Component of fragrance mixture for highly dispersive applications | (G) Methyl alkene ester of benzoic acid.
P-11-0119 | 12/16/10 | 03/15/11 | Dow Chemical Company | (G) Component of adhesive | (S) Oxirane, 2,2′-(phenylene)bis-.
P-11-0120 | 12/16/10 | 03/15/11 | Dow Chemical Company | (G) Component of adhesive | (S) Oxirane, 2-(ethylphenyl).
P-11-0121 | 12/17/10 | 03/16/11 | CBI | (G) Open, non-dispersive use | (G) Epoxidized acrylic polymer.
P-11-0122 | 12/20/10 | 03/19/11 | CBI | (G) Additive, open, non-dispersive use | (G) Polyalkylene glycol methyl-2-propenoate, polymer with alkyl-substituted 2-propenoate.
P-11-0123 | 12/20/10 | 03/19/11 | CBI | (G) Additive, open, non-dispersive use | (G) Hydroxyalkyl methacrylate, reaction product with cyclic ether and cyclic carbonic acid anhydride.
P-11-0124 | 12/20/10 | 03/19/11 | CBI | (G) Additive, open, non-dispersive use | (G) Polyether urethane block copolymer.
P-11-0125 | 12/20/10 | 03/19/11 | CBI | (G) Plastics additive | (G) Carbocyclic diesters.
P-11-0126 | 12/20/10 | 03/19/11 | AOC LLC | (S) Polymer component for laminating of fiber reinforced plastic composites | (S) 1,3-benzenedicarboxylic acid, polymers with by-products from manuf. of 1,4-cyclohexanedimethanol-di-me terephthalate-2,2,4,4-tetramethyl-1,3-cyclobutanediol polymer-ethylene glycol reaction products, 1,4-cyclohexanedimethanol, diethylene glycol, ethylene glycol, maleic anhyride and triethylene glycol.
P-11-0127 | 12/08/10 | 03/07/11 | CBI | (G) Polymer for industrial coatings | (G) Epoxidized fatty acids, unsatd, me esters, polymers with trimethylolpropane.
P-11-0128 | 12/21/10 | 03/20/11 | Eastman Kodak Company | (G) Contained use in an article. Export | (S) 3h-indolium, 2-[2-[3-[2-(1,3-dihydro-1,3,3-trimethyl-2h-indol-2-ylidene)ethylidene]-2-[(1-phenyl-1h-tetrazol-5-yl)thio]-1-cyclohexen-1-yl]ethenyl]-1,3,3-trimethyl-, chloride (1:1).
P-11-0129 | 12/22/10 | 03/21/11 | CBI | (G) Additive, open, non-dispersive use | (G) Potassium polyallylpolyether maleate.
P-11-0130 | 12/22/10 | 03/21/11 | Eastman Kodak Company | (S) Starting material | (S) 1-butanol, 4-amino-.
P-11-0131 | 12/23/10 | 03/22/11 | CBI | (G) Urethane adhesive | (G) Isocyanate-terminated prepolymer.
P-11-0132 | 12/23/10 | 03/22/11 | CBI | (G) Additive, open, non-dispersive use | (G) Polyether urethane.
P-11-0133 | 12/23/10 | 03/22/11 | CBI | (G) Engine oil additive | (G) Alkyl alkenoate, polymer with alkyl alkenoate, alkyl alkenoate, alkyl alkenoates, (dialkylamino)alkyl alkenoate and heteromonocyclic alkyl alkenoate.
P-11-0134 | 12/23/10 | 03/22/11 | CBI | (G) Gear oil additive | (G) Carbomonocyclic alkene polymer with alkyl alkenoate, alkyl alkenoate, alkyl alkenoate, alkyl alkenoate, polyalkylidiene alkenoate and heteromonocyclic alkene.
P-11-0135 | 12/23/10 | 03/22/11 | CBI | (G) Cleaning enhancer additive for laundry and auto dish-washing products | (G) Acid ester.
P-11-0136 | 12/29/10 | 03/28/11 | CBI | (G) Flexible packaging adhesive | (G) Polyether polyester polyurethane adhesive.
P-11-0137 | 12/29/10 | 03/28/11 | CBI | (G) Component of polyurethane foam | (G) Formaldehyde, reaction product with alkylphenol and dialkanolamine, alkoxy alkylated.
P-11-0138 | 12/29/10 | 03/28/11 | CBI | (S) Component of rigid polyurethane foam insulation | (G) Propylene oxide adduct of polyhydric alcohol.
P-11-0139 | 12/29/10 | 03/28/11 | AGC Chemicals Americas, Inc | (S) Component of rigid polyurethane insulation | (G) Alkylene oxide adduct with glycerin.
P-11-0140 | 12/29/10 | 03/28/11 | CBI | (G) Catalyst intermediate | (G) Metal alkoxide.
P-11-0141 | 12/30/10 | 03/29/11 | CBI | (G) Colourant dispersant | (G) Acrylic polymer.
P-11-0142 | 12/30/10 | 03/29/11 | CBI | (G) Colourant dispersant | (G) Acrylic polymer.
P-11-0143 | 12/30/10 | 03/29/11 | CBI | (G) Colourant dispersant | (G) Acrylic polymer.
P-11-0144 | 01/03/11 | 04/02/11 | CBI | (G) Colourant dispersant | (G) Acrylic polymer.
P-11-0145 | 01/03/11 | 04/02/11 | CBI | (G) Colourant dispersant | (G) Acrylic polymer.
P-11-0146 | 01/03/11 | 04/02/11 | CBI | (S) Coating for metals | (G) Styrene-acrylic copolymer.
P-11-0147 | 01/03/11 | 04/02/11 | CBI | (S) Ultra-violet (Uv)-curable polymer for kitchen cabinet and office furniture finishes | (G) Uv-curablepolyester polyurethane acrylate.
P-11-0148 | 01/03/11 | 04/02/11 | Ineos Oligomers | (G) Industrial applications | (S) Hydrocarbons, C4, 1,3-butadiene-free, polymd., triisobutylene fraction, hydrogenated.
P-11-0149 | 01/04/11 | 04/03/11 | Forbo Adhesives, LLC | (G) Hot melt adhesive | (G) Isocyanate function polyester urethane polymer.
P-11-0150 | 01/04/11 | 04/03/11 | CBI | (G) Battery materials | (G) Alkali transition metal oxide.
P-11-0151 | 01/04/11 | 04/03/11 | CBI | (G) Polymer admixture for cements | (G) N-sulfoalkyl-aminocarbonylalkenyl, polymer modified with N,N-dialkyl-aminocarbonylalkenyl, sodium salt.
P-11-0152 | 01/07/11 | 04/06/11 | CBI | (G) Resin (open, non dispersive use) | (G) Polyester type polyurethane resin.
P-11-0153 | 01/10/11 | 04/09/11 | Steward Advanced Materials | (S) Adsorbent for treating industrial wastewater; adsorbent for removing catalysts in pharmaceutical production; adsorbent for removing precious metals in mining operations; adsorbent for removing contaminants from water in remediation situations | (S) 1-propanethiol, 3-(trimethoxysilyl)-, reaction products with silica.
P-11-0154 | 01/10/11 | 04/09/11 | Huntsman Textile Effects | (S) Exhaust dyeing of polyester fabrics | (G) Dioxy difuran phenyl ethoxy ester compound.
P-11-0155 | 12/02/10 | 03/01/11 | CBI | (G) Colorant for cleaners and detergents | (G) Polymer substituted anthraquinone derivative.
P-11-0156 | 01/10/11 | 04/09/11 | Nanotech Industries, Inc | (S) Flooring; paints; top coating | (S) Carbamic acid, N,N′-(trimethyl-1,6-hexanediyl)bis-, ester with 1,2-propanediol (1:2).
P-11-0157 | 01/10/11 | 04/09/11 | Gellner Industrial, LLC | (S) Acrylic polymer for concrete coatings, stain blocking sealer | (S) 2-propenoic acid, 2-methyl-, 2-(dimethylamino)ethyl ester, polymer with ethyl 2-propenoate, 2-hydroxyethyl 2-propenoate and methyl 2-methyl-2-propenoate (9cl).
P-11-0158 | 01/11/11 | 04/10/11 | CBI | (G) Inhibitor for oil field applications | (G) Tertiary ammonium compound.
P-11-0159 | 01/11/11 | 04/10/11 | Apollo Chemical | (S) Flame retardant for synthetic and cellulosic fabrics | (S) Guanidine phosphate.
P-11-0160 | 01/12/11 | 04/11/11 | CBI | (G) Open, non-dispersive (resin) | (G) Acrylated fatty acid glycerides.
P-11-0161 | 01/12/11 | 04/11/11 | CBI | (G) Open, non dispersive coating | (G) Polyurethane acrylate resin.
P-11-0162 | 01/13/11 | 04/12/11 | Esstech, Inc | (S) Adhesive monomer | (S) 5-isobenzofurancarboxylic acid, 1,3-dihydro-1,3-dioxo-,2-[(2-methyl-1-oxo-2-propen-1-yl)oxy]ethyl ester.
P-11-0163 | 01/18/11 | 04/17/11 | CBI | (G) Open, non-dispersive use | (G) Epoxidized acrylic polymer.
P-11-0164 | 01/19/11 | 04/18/11 | CBI | (G) Rheology control agent | (G) 2-propenoic acid, 2-methyl-, aminoalkyl ester, polymer with et acrylate, 2-hydroxyethyl methacrylate, polyethylene glycol methacrylate alkyl ether and polyethylene-polypropylene glycol alkyl ether.
P-11-0165 | 01/20/11 | 04/19/11 | CBI | (G) Automotive coatings | (G) Isocyanate homopolymer, alkoxysilyl amine blocked.
P-11-0166 | 01/20/11 | 04/19/11 | CBI | (G) Surfactant | (G) Fatty acids, esters with polyalkylene glycol mono alkyl ether.
P-11-0167 | 01/21/11 | 04/20/11 | CBI | (G) Polyurethane component | (G) Aromatic isocyanate polymer with alkyldioic acid, polyol, and unsaturated alkyl acid.
P-11-0168 | 01/24/11 | 04/23/11 | CBI | (S) Reinforcing filler for the production of rubber goods | (G) Silanized amorphous silica.
P-11-0169 | 01/20/11 | 04/19/11 | CBI | (G) Uv absorber for coatings | (G) Alkyl aryl substituted pyrrolo benzotriazole dione.
P-11-0170 | 01/21/11 | 04/20/11 | CBI | (S) Reactive dilluent and toughening agent for polyester and vinyl composites made via molding; auto, marine, windmill and other structural composite repair putty | (G) Methacrylated lauric acid; methacrylate fatty acid; mlau.
P-11-0171 | 01/21/11 | 04/20/11 | CBI | (S) Reactive dilluent and toughening agent for polyester and vinyl composites made via molding; auto, marine, windmill and other structural composite repair putty | (G) Methacrylated caprylic acid; methacrylate fatty acid; mcap.
P-11-0172 | 01/21/11 | 04/20/11 | CBI | (S) Reactive dilluent and toughening agent for polyester and vinyl composites made via molding; auto, marine, windmill and other structural composite repair putty | (G) Methacrylated C8-18 fatty acids; methacrylate fatty acids; mc818.
P-11-0173 | 01/26/11 | 04/25/11 | CBI | (G) Coatings for wooden floors | (G) Polyurethane dispersion in water.
P-11-0174 | 01/26/11 | 04/25/11 | CBI | (G) Coatings for textile | (G) Polyurethane dispersion in water.
P-11-0175 | 01/25/11 | 04/24/11 | CBI | (G) Flow improver | (G) Polyglycerol fatty acid ester.
P-11-0176 | 01/26/11 | 04/25/11 | CBI | (G) Coatings for wooden floors | (G) Polyurethane dispersion in water.
P-11-0177 | 01/26/11 | 04/25/11 | CBI | (G) Coatings for paper | (G) Polyurethane dispersion in water.
P-11-0178 | 01/26/11 | 04/25/11 | CBI | (G) Cross-linker for industrial coating application | (G) Blocked isocyanate in organic solvent.
P-11-0179 | 01/26/11 | 04/25/11 | CBI | (G) Crosslinking product for use in industrial coatings | (G) Water dispersed blocked isocyanate.
P-11-0180 | 01/28/11 | 04/27/11 | CBI | (G) Modifier for polymers | (S) Phosphonic acid, p-octyl-, zinc salt (1:1).
P-11-0181 | 01/31/11 | 04/30/11 | Raindance Technologies, Inc. | (G) Surfactant for laboratory use fluid | (G) Fluorosurfactant.
P-11-0182 | 01/31/11 | 04/30/11 | CBI | (G) Component of a one part heat cured, high structural, impact modified adhesive for metal assembly | (S) Poly(oxy-1,4-butanediyl), .alpha.-hydroxy-.omega.-hydroxy-, polymers with hydroxy-terminated polybutadiene and 5-isocyanato-1-(isocyanatomethyl)-1,3,3-trimethylcyclohexane, 4-methoxyphenol-blocked.
P-11-0183 | 01/27/11 | 04/26/11 | CBI | (G) Automotive coatings | (G) Acid alkyl monoester, heterocyclic compd.; acid alkyl diester, heterocyclic compd.; acid alkyl monoester, heterocyclic compound; acid alkyl diester, heterocyclic compound.
P-11-0184 | 01/27/11 | 04/26/11 | CBI | (G) Automotive coatings | (G) Acid alkyl monoester, compd. with alkyl amine; acid alkyl diester, compd. with alkyl amine; acid alkyl monoester, compd. with alkyl amine; acid alkyl diester, compd. with alkyl amine.
P-11-0185 | 01/31/11 | 04/30/11 | CBI | (G) Hydrocarbon feed stock for fuel. | (G) Oil derived from the pyrolysis of rubber tire shreds.
P-11-0186 | 01/31/11 | 04/30/11 | CBI | (G) Provide multifunctional performance attributes to reinforcements used in composites | (G) Infused carbon nanostructures (CNS).
P-11-0187 | 01/31/11 | 04/30/11 | CBI | (G) Provide multifunctional performance attributes to reinforcements used in composites | (G) Infused carbon nanostructures (CNS).
P-11-0188 | 01/31/11 | 04/30/11 | CBI | (G) Provide multifunctional performance attributes to reinforcements used in composites | (G) Infused carbon nanostructures (CNS).
P-11-0189 | 01/13/11 | 04/12/11 | Evans Chemetics LP | (G) Coating applied to metal substrates | (S) Acetic acid, 2,2′-dithiobis-′ diammonium salt.

In Table II. of this unit, EPA provides the following information (to the extent that such information is not claimed as CBI) on the NOCs received by EPA during this period: The EPA case number assigned to the NOC, the date the NOC was received by EPA, the projected end date for EPA's review of the NOC, and chemical identity.

Table II—77 NOCs Received From December 3, 2010 to January 31, 2011
Case No. | Received date | Commencement notice end date | Chemical
P-09-0554 | 11/18/10 | 10/24/10 | (S) Fuels, diesel, C9-18-alkane branched and linear.
P-09-0565 | 11/24/10 | 11/15/10 | (G) Hydrophobically modified cationic polyamide resin.
P-09-0574 | 11/10/10 | 10/11/10 | (G) Acrylic based copolymer.
P-09-0589 | 10/13/10 | 10/06/10 | (G) Oximosilane.
P-09-0590 | 12/02/10 | 10/06/10 | (G) Oximosilane.
P-09-0632 | 12/07/10 | 12/02/10 | (G) Polyphosphonate.
P-09-0633 | 12/07/10 | 11/22/10 | (G) Isocyanate functional polyester urethane polymer.
P-10-0005 | 12/30/10 | 12/01/10 | (S) Single-wall carbon nanotube.
P-10-0008 | 12/01/10 | 11/15/10 | (G) Distillates (petroleum), light thermal cracked, reaction products with phenol, carboxylated, metal salts.
P-10-0024 | 11/30/10 | 05/10/10 | (G) Substituted benzoyl chloride.
P-10-0026 | 11/30/10 | 05/15/10 | (G) Salt of condensation product of substituted pyrazolone.
P-10-0060 | 10/28/10 | 10/17/10 | (G) Partially fluorinated alcohol substituted glycol.
P-10-0096 | 12/22/10 | 11/17/10 | (G) Aminated epoxy salts.
P-10-0097 | 12/22/10 | 11/19/10 | (G) Aminated epoxy salt.
P-10-0099 | 12/07/10 | 11/24/10 | (S) Phosphonic acid, p-octyl-, lanthanum (3+) salt (2:1)*.
P-10-0105 | 11/22/10 | 10/12/10 | (S) 1,2-cyclohexane dicarboxylic acid bis (2-ethylhexyl) ester*.
P-10-0127 | 12/22/10 | 11/23/10 | (G) Blocked isocyanate crosslinker.
P-10-0136 | 12/01/10 | 11/10/10 | (G) Polythiol.
P-10-0148 | 11/16/10 | 10/22/10 | (G) Partially fluorinated borate ester.
P-10-0168 | 11/04/10 | 10/22/10 | (G) Polyester polyurethane.
P-10-0173 | 11/10/10 | 11/09/10 | (G) Vinylimidazole (vima) grafted poly alpha olefin (pao) complexed with diisopropoxy titanium bis-acetylacetonate.
P-10-0215 | 10/14/10 | 09/21/10 | (G) Silane modified polymer.
P-10-0224 | 12/29/10 | 12/11/10 | (G) 4,4′-bipridinium, 1-(phosphonoalkyl)-1′-substituted-, salt with anion (1:2).
P-10-0225 | 10/25/10 | 10/06/10 | (G) Aromatic isocyanate prepolymer.
P-10-0249 | 01/18/11 | 12/28/10 | (G) Methyl methacrylate butylmethylacrylate styrene divinylbenzene copolymer.
P-10-0282 | 01/31/11 | 01/12/11 | (G) Maleated nylon graft copolymer.
P-10-0283 | 01/20/11 | 12/17/10 | (G) Maleated nylon graft copolymer.
P-10-0294 | 11/29/10 | 11/20/10 | (G) Unsaturated urethane acrylate.
P-10-0302 | 12/07/10 | 11/24/10 | (G) Fatty acid amine salt.
P-10-0303 | 12/29/10 | 12/11/10 | (G) Heterocycle, disubstituted, salt with anion (1:1).
P-10-0317 | 10/18/10 | 10/07/10 | (G) Fluoroalkyl acrylate copolymer.
P-10-0324 | 12/03/10 | 11/09/10 | (G) Urea, N,N′-(methyl-1,3-phenylene)bis[N′,N′-bis[3-(polyalkyleneamino]-, compound with formaldehyde polymer with phenol.
P-10-0325 | 10/07/10 | 09/20/10 | (G) Neodymium ziegler-natta catalyst.
P-10-0329 | 11/24/10 | 11/11/10 | (S) Hexadecanamide, N-[3-(hexadecyloxy)-2-hydroxypropyl]-N-(2-hydroxyethyl)-*.
P-10-0332 | 12/09/10 | 11/09/10 | (G) Amino alcohol substituted phenol.
P-10-0335 | 10/15/10 | 10/05/10 | (G) Polyester type urethane resin.
P-10-0355 | 12/29/10 | 12/15/10 | (S) Cyclohexanecarboxylic acid, 3-methyl-, methyl ester, (1R, 3R)-rel-*.
P-10-0359 | 12/15/10 | 11/18/10 | (G) Heterocyclic salt.
P-10-0371 | 10/21/10 | 10/03/10 | (G) Alkoxysilane.
P-10-0373 | 11/09/10 | 11/04/10 | (G) Adipic acid polyester.
P-10-0375 | 11/04/10 | 10/15/10 | (G) Dimer fatty acid based polyester polyurethane.
P-10-0388 | 10/06/10 | 08/23/10 | (G) 2-propenoic acid, 2-methyl-, polymer with alkyl 2-propenoates, ethenyl acetate and methyl-2-methyl-2-propenoate.
P-10-0389 | 10/04/10 | 09/08/10 | (G) Amino acid, N-(2-aminoalkyl)-, salt (1:1), polymers with cycloaliphatic diamine, alkyldiisocyanate, alpha-hydro-omega-hydroxy(alkyldiyl) and polyalkyl glycol mono alkyl ether blocked, alkyldiisocyanate-aromatic diisocyanate, polyalkyl glycol mono alkyl ether blocked.
P-10-0394 | 10/07/10 | 09/28/10 | (G) Aromatic carboxylic acid.
P-10-0395 | 10/07/10 | 10/01/10 | (G) Organic carboxylic acid.
P-10-0396 | 10/25/10 | 10/03/10 | (G) Heteroaromatic compound.
P-10-0397 | 10/25/10 | 10/21/10 | (G) Organic antioxidant.
P-10-0409 | 12/03/10 | 11/11/10 | (G) Haloalkyl substituted pyridine sulfide.
P-10-0412 | 10/14/10 | 09/17/10 | (G) Acrylic polymer.
P-10-0418 | 01/14/11 | 12/15/10 | (G) Aromatic dicarboxylic acid, polymer with cycloaliphatic diamine, aliphatic diisocyanate, aliphatic dicarboxylic acid, aliphatic diol, polyether diol, and dihydroxy aliphatic carboxylic acid compound compound with aliphatic triamine.
P-10-0430 | 10/06/10 | 09/28/10 | (G) Urethane acrylate.
P-10-0431 | 10/28/10 | 10/08/10 | (G) Soybean oil polyol.
P-10-0432 | 12/14/10 | 12/13/10 | (G) Acrylated aliphatic polyurethane.
P-10-0434 | 01/05/11 | 12/09/10 | (G) Polyurethane dispersion.
P-10-0436 | 12/13/10 | 11/02/10 | (G) Unsaturated polyester resin.
P-10-0443 | 10/28/10 | 10/22/10 | (G) Carbomonocyclic dicarboxylic acid, polymer with 1,2-ethanediol, 2-ethyl-2-(hydrooxymethyl)-1,3-propane derivatives, 4,4'-(1-methylethylidene)bis[cyclohexanol] and 1,2,3-propanetriol.
P-10-0446 | 11/03/10 | 10/29/10 | (S) Terpenes and terpenoids, mint, metha arvensis-oil, acetylated*.
P-10-0448 | 11/16/10 | 10/26/10 | (S) 1,4-benzenedicarboxylic acid, 1,4-dimethyl ester, polymer with 1,4-cyclohexanedimethanol and 2,2,4,4-tetramethyl-1,3-cyclobutanediol, manuf. of, by-products from, reaction products with ethylene glycol*.
P-10-0461 | 01/07/11 | 12/28/10 | (G) Polyalkylene carbonatediol.
P-10-0473 | 12/23/10 | 11/29/10 | (G) Polycarbonate and polyester-type polyurethane.
P-10-0477 | 12/01/10 | 11/03/10 | (G) Inorganic carbonate reaction products with substituted alkyl ether.
P-10-0488 | 11/17/10 | 11/10/10 | (G) Poly(urethane urea).
P-10-0490 | 11/18/10 | 11/07/10 | (G) Dimer fatty acid, polymer with tall-oil fatty acid, alkyl diacid and alkyldiamines.
P-10-0491 | 01/06/11 | 12/15/10 | (G) Amphoteric acrylic polymer.
P-10-0493 | 12/23/10 | 11/12/10 | (G) Bisphenol A epoxy hema phthalate.
P-10-0498 | 01/05/11 | 12/06/10 | (S) Dodecanoic acid, 3-[[3-[[[2,2-dimethyl-3-[(1-oxododecyl)oxy]propylidene]amino]methyl]-3,5,5-trimethylcyclohexyl]imino]-2,2-dimethylpropyl ester*.
P-10-0516 | 01/28/11 | 01/21/11 | (G) Alkanoic acid ester, polymers with alkanolamine and substituted acrylate-blocked substituted polyalkylene-urethane polymer.
P-10-0522 | 01/19/11 | 01/15/11 | (G) Polymer with aromatic polycarboxylic acid, aliphatic polycarboxylic acid and aliphatic polyol.
P-10-0526 | 01/14/11 | 01/13/11 | (G) Methacrylate co-polymer.
P-10-0528 | 01/18/11 | 01/12/11 | (G) Urethane acrylate.
P-10-0586 | 01/31/11 | 01/05/11 | (G) Isocyanate terminated urethane polymer.
P-10-0587 | 01/31/11 | 01/06/11 | (G) Isocyanate terminated urethane polymer.
P-10-0590 | 01/20/11 | 01/17/11 | (G) Modified ketal ester.
P-11-0015 | 01/27/11 | 01/26/11 | (S) Cyclohexanepentanol, -methyl-*.
P-98-0687 | 11/15/10 | 10/14/10 | (G) Polyolefin phenol ethoxylate.
P-99-1008 | 10/12/10 | 09/15/10 | (G) Polyimide precursor solution.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: May 23, 2011.
Matthew Leopard,
Director, Information Management Division, Office of Pollution Prevention and Toxics.

[FR Doc. 2011-13672 Filed 6-2-11; 8:45 am]

BILLING CODE 6560-50-P